DEPARTMENT OF LABOR

Employment and Training Administration

[TA-W-82,116]

Heraeus Kulzer, LLC., Including On-Site Leased Workers from People Link Staffing, Forge Staffing, Career Transitions and Talent Source; South Bend, Indiana; Amended Certification Regarding Eligibility To Apply for Worker Adjustment Assistance

In accordance with Section 223 of the Trade Act of 1974, as amended (“Act”), 19 U.S.C. 2273, the Department of Labor issued a Certification of Eligibility to Apply for Worker Adjustment Assistance on November 16, 2012, applicable to workers of Heraeus Kulzer, LLC, including on-site leased workers from People Link Staffing and Forge Staffing, South Bend, Indiana. The workers are engaged in activities related to the production of dental products. The notice was published in the Federal Register on January 8, 2013 (78 FR 1255).

At the request of a company official, the Department reviewed the certification for workers of the subject firm. New information from the company shows that workers leased from Career Transitions and Talent Source were employed on-site at the South Bend, Indiana location of Heraeus Kulzer, LLC. The Department has determined that these workers were sufficiently under the control of Heraeus Kulzer, LLC to be considered leased workers.

The intent of the Department's certification is to include all workers of the subject firm who were adversely affected by a shift in the production of dental products to Romania.

Based on these findings, the Department is amending this certification to include workers leased from Career Transitions and Talent Source working on-site at the South Bend, Indiana location of the subject firm.

The amended notice applicable to TA-W-82,116 is hereby issued as follows:

All workers from Heraeus Kulzer, LLC, including on-site leased workers from People Link Staffing, Forge Staffing, Career Transitions and Talent Source, South Bend, Indiana, who became totally or partially separated from employment on or after October 30, 2011, through November 16, 2014, and all workers in the group threatened with total or partial separation from employment on date of certification through two years from the date of certification, are eligible to apply for adjustment assistance under Chapter 2 of Title II of the Trade Act of 1974, as amended.

Signed at Washington, DC, this 17th day of January 2013.
Del Min Amy Chen,
Certifying Officer, Office of Trade Adjustment Assistance.

[FR Doc. 2013-02535 Filed 2-5-13; 8:45 am]

BILLING CODE 4510-FN-P